DEPARTMENT OF HEALTH AND HUMAN SERVICES

Centers for Disease Control and Prevention

[60Day-09-09AH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Improving the Quality and Delivery of CDC's Heart Disease and Stroke Prevention Programs—New—Division for Heart Disease and Stroke Prevention (DHDSP), National Center for Chronic Disease Prevention and Health Promotion (NCCDPHP), Centers for Disease Control and Prevention (CDC).

Background and Brief Description

Heart disease and stroke are the first and third leading causes of death for both men and women in the United States, accounting for more than 35% of all deaths. They are also among the leading causes of disability in the U.S. workforce, with projected costs of more than $448 billion in 2008, including health care expenditures and lost productivity from death and disability. As the U.S. population ages, the economic impact of cardiovascular diseases on the health care system is expected to become even greater.

While heart disease and stroke are among the most widespread and costly health problems facing our nation today, they are also among the most preventable. In 2006, CDC created the Division of Heart Disease and Stroke Prevention (DHDSP) in response to the epidemic of heart disease and stroke facing our nation. The DHDSP provides national leadership for efforts to reduce the burden of disease, disability, and death from heart disease and stroke for all Americans. The DHDSP's key partners include state and local health departments, public health organizations, community organizations, nonprofit organizations, and professional organizations.

Many heart disease and stroke prevention and control activities are conducted through DHDSP-funded heart disease and stroke prevention programs, including the State Heart Disease and Stroke Prevention Program, the Paul Coverdell National Acute Stroke Registry, and the Well-Integrated Screening and Evaluation for Women Across the Nation (WISEWOMAN) Program.

The DHDSP supports the development of CDC-funded programs, as well as external partners, by conducting trainings, providing scientific guidance and technical assistance, and producing scientific information and supporting tools. For example, the DHDSP provides training to States on how to implement and evaluate their programs and provides guidance on how to best apply evidence-based practices. In addition the DHDSP translates its scientific studies into informational products, such as on-line reports and data on heart disease and stroke trends.

The DHDSP recognizes the importance of ensuring that its activities are useful, well implemented, and effective in achieving intended public health goals. To evaluate its current and future program activities, the DHDSP has developed a comprehensive assessment strategy based on the criteria of relevance, quality and impact.

Over the next three years, DHDSP plans to conduct a series of information collections based on a reference set of questions that address relevance, quality and impact of DHDSP services and guidance. Respondents will be the DHDSP's partners in state and local government as well as organizations in the private sector. A generic clearance is requested in order to provide flexibility in the content and timing of specific information collections. Surveys tailored to specific public health partners, services, or other programmatic initiatives will be developed from the reference set of pre-approved questions. A small number of demographic and descriptive questions may be included in specific surveys to assess the extent to which perceptions and use of DHDSP services vary across types of respondents. The DHDSP also seeks approval to include a limited number of customized questions within each survey to ensure responsiveness to specific needs. The evaluation information will be used to determine whether DHDSP activities and products are reaching the intended audiences, whether they are deemed to be useful by those audiences, and whether DHDSP efforts improve public health practices. Finally, the generic clearance format will allow the DHDSP to identify new programmatic opportunities and to respond to partners' concerns.

Whenever feasible, information will be collected electronically to reduce burden on respondents. In addition, information may be collected through in-person or telephone interviews or focus groups when Web-based surveys are impractical or when in-depth responses are required. Without the proposed collection of information, DHDSP's evaluation initiatives would be based on informal and partial feedback from a limited number of partners.

There are no costs to respondents other than their time.

Estimated Annualized Burden Hours
Type of respondent | Data collection mechanism | Number of respondents | Average burden per response (in hours) | Total Burden (in hours)
State and Local Health Departments | Web-based survey | 250 | 30/60 | 125
| Interview | 30 | 1 | 30
| Focus group | 32 | 1 | 32
Private Sector Partners | Web-based survey | 120 | 30/60 | 60
| Interview | 120 | 1 | 120
| Focus group | 48 | 1 | 48
Total |  |  |  | 415

Dated: December 5, 2008.
Maryam I. Daneshvar,
Acting Reports Clearance Officer, Centers for Disease Control and Prevention.

[FR Doc. E8-29399 Filed 12-11-08; 8:45 am]

BILLING CODE 4163-18-P